DEPARTMENT OF TRANSPORTATION

Federal Aviation Administration

Fourth Meeting: Special Committee 230 (SC 230)

AGENCY: Federal Aviation Administration (FAA), U.S. Department of Transportation (DOT).

ACTION: Fourth Meeting Notice of Special Committee 230.

SUMMARY: The FAA is issuing this notice to advise the public of the fourth meeting of Special Committee 230.

DATES: The meeting will be held June 16th-18th from 9:00 a.m.-5:00 p.m.

ADDRESSES: The meeting will be held at The Boeing Company, 635 Park Avenue, N Renton, WA 98057, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Special Committee 230. The agenda will include the following:

Tuesday, June 16, 2015

1. Welcome/Introductions/Administrative Remarks

2. Agenda Overview

3. Meeting #3 Minutes approval

4. Discussion of activities with EUROCAE WG-95

5. Review of final findings from DO-220 draft

Wednesday, June 17, 2015

1. Review of issues being addressed in DO-213

2. Review of findings from DO-213 draft

Thursday, June 18, 2015

1. Review of findings from DO-213 draft

2. Action Item Review

3. Other Actions

4. FRAC Progress

5. Date and Place of Next Meetings

6. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 21, 2015.
Latasha Robinson,
Management & Program Analyst, NextGen, Program Oversight and Administration, Federal Aviation Administration.

[FR Doc. 2015-12973 Filed 5-28-15; 8:45 am]

BILLING CODE 4910-13-P